INTERNATIONAL TRADE COMMISSION

[Investigation No. 332-592]

USMCA Automotive Rules of Origin: Economic Impact and Operation, 2023 Report Hearing Update; Extension of Deadline for Requests To Appear and Written Submissions

AGENCY: United States International Trade Commission.

ACTION: Notice.

DATES: October 3, 2022.

FOR FURTHER INFORMATION CONTACT: Project Leader Mitch Semanik (202-205-2034 or mitchell.semanik@usitc.gov), or Deputy Project Leader Sharon Ford (202-204-3084 or sharon.ford@usitc.gov) for information specific to these investigations. For information on the legal aspects of this investigation, contact William Gearhart of the Commission's Office of the General Counsel (202-205-3091 or william.gearhart@usitc.gov). The media should contact Jennifer Andberg, Office of External Relations (202-205-3404 or jennifer.andberg@usitc.gov). Hearing-impaired individuals can obtain information on this matter by contacting the Commission's TDD terminal at 202-205-1810. Persons with mobility impairments who will need special assistance in gaining access to the Commission should contact the Office of the Secretary at 202-205-2000. General information concerning the Commission may also be obtained by accessing its website (https://www.usitc.gov). The public record for these reviews may be viewed on the Commission's electronic docket (EDIS) at https://edis.usitc.gov.

SUPPLEMENTARY INFORMATION: On August 9, 2022, the Commission established a schedule for the conduct of the investigation (87 FR 48495). The Commission hereby gives notice that the hearing in connection with the investigation will be held in-person at the U.S. International Trade Commission Building beginning at 9:30 a.m. on November 3, 2022.

Requests to appear at the hearing should be filed in writing with the Secretary to the Commission on or before October 11, 2022. Any requests to appear as a witness via videoconference must be included with your request to appear. Requests to appear as a witness via videoconference must include a statement explaining why the witness cannot appear in person; the Chairman, or other person designated to conduct the investigation, may at their discretion for good cause shown, grant such requests. Requests to appear as a witness via videoconference due to illness or a positive COVID-19 test result may be submitted by 3 p.m. the business day prior to the hearing.

All prehearing briefs and statements should be filed not later than 5:15 p.m., October 13, 2022. To facilitate the hearing, including the preparation of an accurate written transcript of the hearing, oral testimony to be presented at the hearing must be submitted to the Commission electronically no later than noon, October 27, 2022. Further information about participation in the hearing will be posted on the Commission's website at https://usitc.gov/research_and_analysis/what_we_are_working_on.htm. In lieu of or in addition to participating in the hearing, interested parties are invited to file written submissions concerning this investigation. All written submissions should be addressed to the Secretary and should be received not later than November 25, 2022.

For further information concerning this proceeding and filing procedures see the Commission's notice cited above.

By order of the Commission.
Issued: October 3, 2022.
Katherine Hiner,
Acting Secretary to the Commission.

[FR Doc. 2022-21806 Filed 10-5-22; 8:45 am]

BILLING CODE 7020-02-P